DEPARTMENT OF ENERGY

Federal Energy Regulatory Commission

[Docket Nos. ER02-40-000 and ER02-40-001]

Attala Energy Company, LLC; Notice of Issuance of Order

December 27, 2001.

Attala Energy Company, LLC (Attala) filed with the Commission, in the above-docketed proceeding, an application for market-based rate authority with accompanying tariffs that provides for the sale of capacity, energy, and/or ancillary services, the resale of firm transmission rights and the reassignment of transmission capacity. Attala also requested certain waivers and authorizations. In particular, Attala requested that the Commission grant blanket approval under 18 CFR part 34 of all future issuances of securities and assumptions of liabilities by Attala. On December 19, 2001, the Commission issued an order (Order) that accepted Applicants application, subject to any tariff condition adopted by the Commission in Docket No. ER01-118-000.

The Commission's December 19, 2001 Order granted Attala's request for blanket approval under Part 34, subject to the conditions found in Appendix A in Ordering Paragraphs (2), (3), and (5):

(2) Within 30 days of the date of this order, any person desiring to be heard or to protest the Commission's blanket approval of issuances of securities or assumptions of liabilities by Attala should file a motion to intervene or protest with the Federal Energy Regulatory Commission, 888 First Street, NE., Washington, DC 20426, in accordance with Rules 211 and 214 of the Commission's Rules of Practice and Procedure, 18 CFR 385.211 and 385.214.

(3) Absent a request to be heard within the period set forth in Ordering Paragraph (2) above, Attala is hereby authorized to issue securities and assume obligations and liabilities as guarantor, indorser, surety or otherwise in respect of any security of another person; provided that such issue or assumption is for some lawful object within the corporate purposes of Attala, compatible with the public interest, and reasonably necessary or appropriate for such purposes.

(5) The Commission reserves the right to modify this order to require a further showing that neither public nor private interests will be adversely affected by continued Commission approval of Attala's issuances of securities or assumptions of liabilities. * * *

Notice is hereby given that the deadline for filing motions to intervene or protests, as set forth above, is January 22, 2002.

Copies of the full text of the Order are available from the Commission's Public Reference Branch, 888 First Street, NE., Washington, DC 20426. The Order may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-68 Filed 1-2-02; 8:45 am]

BILLING CODE 6717-01-P